DEPARTMENT OF DEFENSE

Department of the Army

Draft Legislative Environmental Impact Statement (LEIS) for the Limestone Hills Training Area Land Withdrawal, Montana Army National Guard (MTARNG)

AGENCY: National Guard Bureau (NGB), Department of the Army (DA), DoD.

ACTION: Notice of Availability.

SUMMARY: This LEIS has been prepared by NGB (lead agency) and the Department of the Interior's (DOIs) Bureau of Land Management (BLM) (cooperating agency). The LEIS analyzes the proposed withdrawal of 18,644 acres of federal land within the Limestone Hills Training Area (LHTA) from BLM administration. The LEIS proposes that the DOI and Congress transfer administrative responsibility of all federal land within the LHTA to the Army for military training use by the MTARNG. No new facilities are proposed in this LEIS.

DATES: The public comment period for the Draft LEIS will end 90 days after publication of an NOA in the Federal Register by the U.S. Environmental Protection Agency.

ADDRESSES: Written comments or questions should be forwarded by mail to Ms. Sundi West, MTARNG, Fort Harrison, P.O. Box 4789, Helena, Montana 59604-4789; via telephone at (406) 324-3088, or via e-mail at Sundi.West@us.army.mil.

FOR FURTHER INFORMATION CONTACT: Ms. Mary L. Figarelle, BLM, 106 North Parkmont, Butte, Montana 59701; via telephone at (406) 533-7671; or via e-mail at Mary_Figarelle@blm.gov.

SUPPLEMENTARY INFORMATION: The objective of the LEIS is to provide comprehensive analysis of the proposed action and alternatives to the Secretaries of Interior and Army so findings and recommendations can be forwarded to Congress regarding the proposed land withdrawal. The study area for the environmental analysis is resource dependent. It includes Lewis and Clark County and Broadwater County for socioeconomic resources, MTARNG facilities for military mission, and the LHTA for biological and mineral resources.

The LEIS analyzes potential environmental effects of four alternatives:

(1) Alternative 1: Under this alternative, management responsibility for all resources, except for mineral resources, would be shifted from the BLM to the MTARNG. The DA could exercise its authority to condemn private land, and/or terminate any mineral claim or grazing permits under this alternative.

(2) Alternative 2: Under this alternative, the MTARNG and BLM would share resource management responsibilities. Most resources in the LHTAs closure area would be managed by MTARNG. Most resources in the nonclosure area would be managed by the BLM. The closure area is the portion of the LHTA that restricts access without prior approval of the MTARNG. The nonclosure area is the portion of the LHTA that is open to public access for surface use only.

(3) Alternative 3 (Preferred Alternative): Under the preferred alternative, the LHTA would be withdrawn from BLM jurisdiction with modifications based on scoping comments and stakeholder recommendations. The proposed withdrawal area is approximately 18,644 acres of federal land that encloses 2,666 acres of state owned and private land. Land proposed for withdrawal is limited to BLM administrated land within the withdrawal boundary. If does not include private or state owned land.

(4) Alternative 4 (No Action Alternative): Under this alternative, the BLMs current right-of-way grant for military use of the LHTA by MTARNG would not be renewed and would expire in 2014.

Significant Issues: The LHTA is a 23,100-acre parcel of land with private and state owned in-holdings totaling approximately 2,666 acres. The BLM managed 20,460 acres of the total acreage and allows the MTARNG to conduct military training on its property through the right-of-way grant. The public land is also used for grazing, mining, recreation, transportation, utility right-of-ways, and wildlife management. A limestone mine is currently operating within the LHTA. Every federally managed acre of the LHTA falls within ne of seven grazing allotments. In addition, the MTARNG is currently engaged in clearing unexploded ordnance from an LHTA range that is no longer in use.

Issues in the LEIS include the following: (1) Continued ability of Graymont Western's Indian Creek Limestone Mine to extract and process ore within the LHTA; (2) allocation and management of grazing allotments; (3) public access to the LHTA; (4) noise and dust generated during training exercises and by vehicular traffic; (5) impacts to Broadwater County due to possible termination of FLM payments in lieu of taxes if the withdrawal is granted; (6) potential impacts to wildlife I the Elkhorn Management Area; (7) consistency of land management policies after transfer of administrative responsibilities; (8) potential impacts to range management and cleanup activities; (9) owner access to, and use of, in-holdings; and (10) impacts to the local economy and MTARNG training under the no action alternative.

Potential significant adverse impacts to socioeconomics are expected under Alternatives 1 and 4. There are no potentially significant adverse impacts expected under Alternative 2 or 3 (Preferred Alternative).

The DA, through MTARNG, is continuing its public comment process for this action. Public meetings will be held during the LEIS public review period.

Dated: July 3, 2007.
H.E. Wolfe,
Principal Deputy Assistant Secretary of the Army (Environment, Safety and Occupational Health).

[FR Doc. 07-3472 Filed 7-16-07; 8:45 am]

BILLING CODE 3710-08-M